ENVIRONMENTAL PROTECTION AGENCY

40 CFR Part 70

[CA 111-OPPa; FRL-7611-2]

Clean Air Act Full Approval of the Title V Operating Permit Program for Antelope Valley Air Pollution Control District in California

AGENCY: Environmental Protection Agency (EPA).

ACTION: Direct final rule.

SUMMARY: EPA is taking direct final action to fully approve the operating permit program submitted by the California Air Resources Board (CARB) on behalf of Antelope Valley Air Pollution Control District (Antelope Valley APCD or the District). The operating permit program was submitted in response to the directive in the 1990 Clean Air Act (CAA) Amendments that permitting authorities develop, and submit to EPA, programs for issuing operating permits to all major stationary sources and to certain other sources within the permitting authority's jurisdiction. EPA granted final interim approval to the District's operating permit program on December 19, 2000 (65 FR 79314). Of the three deficiencies noted by EPA, two were corrected by Antelope Valley APCD in a timely manner. The third deficiency was resolved on September 22, 2003, when the Governor of California signed SB 700, revising State law by removing the agricultural permitting exemption. Though interim approval of the District's operating permit program expired on January 21, 2003, and EPA consequently implemented a federal operating permit program for Antelope Valley APCD, all three deficiencies are now resolved. Therefore, EPA is approving the District's operating permit program.

DATES: This operating permit program is effective on March 16, 2004, without further notice, unless EPA receives adverse comments by February 17, 2004. If we receive such comment, we will publish a timely withdrawal in the Federal Register to notify the public that these revisions will not take effect.

ADDRESSES: Written comments on this action may be submitted either by mail or electronically. By mail, comments should be addressed to Gerardo Rios, Permits Office Chief, Air Division (AIR-3), EPA Region IX, 75 Hawthorne Street, San Francisco, California, 94105. Electronically, comments should be sent by e-mail to rios.gerardo@epa.gov, or submitted at http://www.regulations.gov.

You can inspect copies of the program submittals, and other supporting documentation relevant to this action, at our Region IX office during normal business hours by appointment.

FOR FURTHER INFORMATION CONTACT: Gerardo Rios, EPA Region IX, at (415) 972-3974 or rios.gerardo@epa.gov.

SUPPLEMENTARY INFORMATION: Throughout this document, “we,” “us,” or “our” means EPA.

Table of Contents

I. Background

II. Description of Today's Action

III. Effect of Today's Action

IV. Public Comment and Final Action

V. Statutory and Executive Order Reviews

I. Background

Title V of the Clean Air Act (CAA or Act) required all state permitting authorities to develop operating permit programs that met certain federal criteria codified at 40 Code of Federal Regulations (CFR) part 70. On December 19, 2000, EPA granted final interim approval of Antelope Valley APCD's title V operating permit program. The District resolved two of the three deficiencies in a timely manner (submittal dates of October 22, 2001, and June 17, 2002). However, because the third deficiency involved EPA's finding that the State's agricultural permitting exemption at Health and Safety Code Section 42310(e) unduly restricted the District's ability to adequately administer and enforce its title V program, Antelope Valley APCD was not able to resolve all deficiencies prior to the expiration of interim approval on January 21, 2003. As a result, EPA began implementation of the part 71 program for all major stationary sources in Antelope Valley APCD, effective January 21, 2003. The three program deficiencies are described in detail in the proposed rulemaking for interim approval of the District's title V program. See 65 FR 17231 (March 31, 2000).

II. Description of Today's Action

We are taking direct final action to approve the operating permit program of Antelope Valley APCD. As stated in the proposed rulemaking for interim approval of the District's title V program, two of the three deficiencies noted by EPA involved District rules: Rule 3006—Reopening, Reissuance, and Termination of Federal Operating Permits; and Rule 219—Equipment Not Requiring a Permit. For Rule 3006, a reference to Rule 3002(E)(2)(b) simply needed to be changed to Rule 3002(E)(2). For Rule 219, the insignificant activity emission cutoff for a regulated pollutant that is not a HAP needed to be reduced to 2 tons/yr. The required revisions were made to these two rules and submitted to EPA. Thus, these two deficiencies have been resolved.

The third deficiency involved California State law. Health and Safety Code Section 42310(e) contained an agricultural permitting exemption which unduly restricted the District's ability to adequately administer and enforce its title V program. On September 22, 2003, the Governor of California signed SB 700, which revised State law to remove the agricultural permitting exemption. Furthermore, we have received a legal opinion from the California Attorney General that confirms that the elimination of the agricultural permitting exemption from State law provides all local districts with authority to issue title V permits to major stationary agricultural sources. Therefore, the third deficiency has also been resolved.

A complete listing of each deficiency, as well as resolution of the deficiency, is contained in the technical support document which is a part of the docket for this action and which is available from the EPA contact (see FOR FURTHER INFORMATION CONTACT section).

III. Effect of Today's Action

Today's action would result in Antelope Valley APCD having a title V program that requires all major stationary sources, including major stationary agricultural sources, to obtain title V operating permits. It would also terminate EPA's implementation of a part 71 federal operating permit program within Antelope Valley APCD.

Following final interim approval of the District's title V program, since the District was not able to submit a complete corrective program for full approval by July 21, 2002, EPA started an 18-month sanctions clock pursuant to CAA section 179(b), 40 CFR 70.10(a)(ii), and 40 CFR 70.4(f)(2). This sanctions clock was to expire on January 21, 2004. Today's action would terminate this sanctions clock.

IV. Public Comment and Final Action

EPA is fully approving the District's title V operating permits program because we believe it is consistent with Title V of the Clean Air Act and 40 CFR part 70. We are processing this action as a direct final action because the revisions made to the program to resolve the interim approval deficiencies are noncontroversial. Therefore, we do not think anyone will object to this approval. However, in the Proposed Rules section of this Federal Register, we are simultaneously proposing approval of this same operating permit program. If we receive adverse comments by February 17, 2004, we will publish a timely withdrawal in the Federal Register to notify the public that the direct final approval will not take effect and we will address the comments in a subsequent final action based on the proposal. If we do not receive timely adverse comments, the direct final approval will be effective without further notice on March 16, 2004. Please note that if we receive adverse comment on an amendment, paragraph, or section of this program and if that provision may be severed from the remainder of the program, we may adopt as final those provisions of the program that are not the subject of an adverse comment.

V. Statutory and Executive Order Reviews

Under Executive Order 12866 (58 FR 51735, October 4, 1993), this final action is not a “significant regulatory action” and therefore is not subject to review by the Office of Management and Budget. For this reason, this action is also not subject to Executive Order 13211, “Actions Concerning Regulations That Significantly Affect Energy Supply, Distribution, or Use” (66 FR 28355, May 22, 2001). This final action merely proposes to approve state law as meeting Federal requirements and imposes no additional requirements beyond those imposed by state law. Accordingly, the Administrator certifies that this final rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Public Law 104-4).

This final rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely proposes to approve an existing requirement under state law, and does not alter the relationship or the distribution of power and responsibilities established in the Clean Air Act. This final rule also is not subject to Executive Order 13045 “Protection of Children from Environmental Health Risks and Safety Risks” (62 FR 19885, April 23, 1997), because it is not economically significant.

In reviewing revisions to state operating permit programs submitted pursuant to Title V of the CAA, EPA will approve such revisions provided that they meet the criteria of the Clean Air Act and EPA's regulations codified at 40 CFR part 70. In this context, in the absence of a prior existing requirement for the State to use voluntary consensus standards (VCS), EPA has no authority to disapprove a part 70 program revision for failure to use VCS. It would thus be inconsistent with applicable law for EPA, when it reviews a part 70 program revision, to use VCS in place of a part 70 program revision that otherwise satisfies the provisions of the Clean Air Act. Thus, the requirements of section 12(d) of the National Technology Transfer and Advancement Act of 1995 (15 U.S.C. 272 note) do not apply. This final rule does not impose an information collection burden under the provisions of the Paperwork Reduction Act of 1995 (44 U.S.C. 3501 et seq.).

List of Subjects in 40 CFR Part 70

Environmental protection, Administrative practice and procedure, Air pollution control, Intergovernmental relations, Operating permits, Reporting and recordkeeping requirements.

Dated: January 6, 2004.
Wayne Nastri,
Regional Administrator, Region IX.

40 CFR part 70, chapter I, title 40 of the Code of Federal Regulations is amended as follows:

PART 70—[AMENDED]

1. The authority citation for part 70 continues to read as follows:

Authority: 42 U.S.C. 7401, et seq.

2. Appendix A to part 70 is amended by adding paragraph (ii) under California to read as follows:

Appendix A to Part 70—Approval Status of State and Local Operating Permits Programs

* * * * *

California

* * * * *

(ii) Antelope Valley APCD:

(1) Complete submittal received on January 26, 1999; interim approval effective January 18, 2001; interim approval expires January 21, 2003.

(2) Revisions were submitted on October 22, 2001 and June 17, 2002. Due to unresolved deficiency of state-exempt major stationary agricultural sources, interim approval expired for all major stationary sources, effective January 21, 2003.

(3) Revision submitted on November 7, 2003 containing program for major stationary agricultural sources, effective on January 1, 2004.

* * * * *

[FR Doc. 04-1040 Filed 1-15-04; 8:45 am]

BILLING CODE 6560-50-P